DEPARTMENT OF THE INTERIOR

Bureau of Land Management

[NV-930-1430-01; NEV-060209, N-36084, N-36102, N-1647]

Notice of Termination of Segregative Effect and Opening Order for Lands Reconveyed to the United States by Private Exchange, Nevada

AGENCY: Bureau of Land Management, Interior.

ACTION: Notice.

SUMMARY: This Notice terminates the segregative effect of lands reconveyed to the United States by private exchange, and opens the land to appropriation under the public land laws, including mineral leasing laws, material disposal laws, and general mining laws, subject to valid existing rights.

EFFECTIVE DATE: June 21, 2004.

FOR FURTHER INFORMATION CONTACT: Realty Specialist Barbara Kehrberg, Winnemucca Field Office, Bureau of Land Management, 5100 East Winnemucca Boulevard, Winnemucca Nevada 89445 (775) 623-1500.

SUPPLEMENTARY INFORMATION: The following lands were reconveyed to the United States by private exchange under Section 8 of the Taylor Grazing Act of June 28, 1934. These lands are all located in the Mount Diablo Meridian, Nevada.

NEV-060209

T. 46 N., R. 35.E.,

Sec. 23: SE¼SE¼;

Sec. 24: S½SW¼, SW¼SE¼;

Sec. 25: NW¼NE¼.

N-36084

T. 47 N., R. 36 E.,

Sec. 1: S½NW¼, SE¼SE¼;

Sec. 2: SE¼NE¼, NE¼SW¼;

Sec. 3: SE¼NE¼.

N-36102

T. 35 N., R. 40 E.,

Sec. 3: Lots 3 and 4, S½NW¼, NW¼SW¼.

N-1647

T. 35 N., R. 38 E.,

Sec. 16: NE¼NW¼, E½SW¼, NW¼SW¼, S½SE¼, N½SE¼.

The total area described aggregates 1,159.56 acres.

The segregation no longer serves any purpose; accordingly, pursuant to the Act of June 28, 1934, as amended, at 10 a.m. on July 21, 2004 the above described land will become open to the operation of the public land laws generally, subject to valid existing rights, the provisions of existing withdrawals, and the requirements of applicable laws, rules, and regulations.

The above described lands will become open to the mineral leasing laws, material disposal laws, and location under the United States mining laws. Appropriation of the land under the general mining laws prior to the date and time restoration is not authorized. Any such attempted appropriation, including attempted adverse possession under 30 U.S.C. 38, shall vest no rights against the United States. State law governs activities necessary to locate and initiate a right of possession unless the state law conflicts with Federal law.

The Bureau of Land Management will not intervene in disputes between rival locators over possessory rights because the Mining law states that such disputes must be settled in local courts.

Dated: May 3, 2004.
Terry A. Reed,
Field Manager, Winnemucca.

[FR Doc. 04-13973 Filed 6-18-04; 8:45 am]

BILLING CODE 4310-HC-P